INTERNATIONAL TRADE COMMISSION

[USITC SE-16-016]

Government in the Sunshine Act Meeting Notice

AGENCY HOLDING THE MEETING: United States International Trade Commission

TIME AND DATE: May 13, 2016 at 10:00 a.m.

PLACE: Room 101, 500 E Street SW., Washington, DC 20436, Telephone: (202) 205-2000.

STATUS: Open to the public

MATTERS TO BE CONSIDERED:

1. Agendas for future meetings: none.

2. Minutes.

3. Ratification List.

4. Vote in Inv. Nos. 701-TA-558 and 731-TA-1316 (Preliminary) (1-Hydroyethylidene-1, 1-Disphosphonic Acid (HEDP) from China). The Commission is currently scheduled to complete and file its determinations on May 16, 2016; views of the Commission are currently scheduled to be completed and filed on May 23, 2016.

5. Outstanding action jackets: none.

In accordance with Commission policy, subject matter listed above, not disposed of at the scheduled meeting, may be carried over to the agenda of the following meeting.

By order of the Commission.
Issued: May 3, 2016.
William R. Bishop,
Supervisory Hearings and Information Officer.

[FR Doc. 2016-10773 Filed 5-4-16; 11:15 am]

BILLING CODE 7020-02-P